FEDERAL COMMUNICATIONS COMMISSION

47 CFR Part 54

[CC Docket 96-45; FCC 02-41]

Federal-State Joint Board on Universal Service

AGENCY: Federal Communications Commission.

ACTION: Final rule.

SUMMARY: In this document, the Commission asks the Joint Board to begin a comprehensive review of the non-rural high-cost support mechanism. In light of the need to act expeditiously on the issues, the Commission will delay initiation of a proceeding to consider future action on the rural high-cost support mechanism.

DATES: Comments are due April 10, 2002. Reply comments are due April 25, 2002.

FOR FURTHER INFORMATION CONTACT: Katie King at (202) 418-7491 or Jennifer Schneider at (202) 418-0425 in the Accounting Policy Division, Common Carrier Bureau.

SUPPLEMENTARY INFORMATION: This is a summary of the Commission's Order in CC Docket No. 96-45 released on February 15, 2002. The Order is related to a Notice of a Proposed Rulemaking (NPRM) that is published elsewhere in this issue. The full text of this document is available for public inspection during regular business hours in the FCC Reference Center, Room CY-A257, 445 12th Street, SW., Washington, DC 20554.

I. Introduction

1. In this Order, the Commission refers the record collected in the NPRM to the Joint Board for a recommended decision. In the NPRM, the Commission seeks comment on issues from the Ninth Report and Order, 66 FR 67416, December 1, 1999, remanded by the United States Court of Appeals for the Tenth Circuit. As part of the referral, the Commission also asks the Joint Board to begin a comprehensive review of the non-rural high-cost support mechanism. In light of the need to act expeditiously on the issues on remand, the Commission will delay initiation of a proceeding to consider future action on the rural high-cost support mechanism.

II. The Commission's Plan for Universal Service and Joint Board Referral

2. The Joint Board has previously considered and given recommendations on many of the issues in this docket. The Commission concludes that further Joint Board input will be beneficial for consideration of the issues on remand. Accordingly, the Commission refers the issues described in the NPRM, and the record developed herein, to the Joint Board for a recommended decision. Specifically, the Commission asks the Joint Board to provide a recommended decision on (1) how the Commission should define the key statutory terms “reasonably comparable” and “sufficient”; (2) whether, in light of the interpretation of those key statutory terms, the Commission can and should maintain the previously established benchmark or, in the alternative, should adopt a new benchmark or benchmarks; and (3) how the Commission should induce states to implement state universal service policies. The Commission intends these referral issues to encompass the review of the non-rural mechanism that the Commission previously stated would occur by January 1, 2003. At their core, the issues on remand require an examination of the non-rural mechanism. The Commission directs the Joint Board to base its recommended decision on the record developed from the NPRM and present its recommended decision to the Commission no later than August 15, 2002. The Commission will then expeditiously consider the Joint Board's recommendations and issue an order in response to the court's remand.

3. Finally, although the Commission has determined that all carriers will eventually receive universal service support based upon their forward-looking costs, it has allowed rural carriers to continue to calculate support under a modified version of the embedded cost mechanism for five years. The Commission previously stated that it intended to refer the complex issues surrounding rural high-cost support to the Joint Board, “no later than January 1, 2002” in order to begin the process of determining what regime should be in place upon the expiration of the Rural Task Force plan. The Commission further stated that, “in the context of the Joint Board's consideration of an appropriate high-cost mechanism for rural telephone companies, [it anticipates] conducting a comprehensive review of the high-cost support mechanisms for rural and non-rural carriers as a whole to ensure that both mechanisms function efficiently and in a coordinated fashion.”

4. In light of the need to expeditiously address the issues remanded by the court, the Commission now believes it appropriate to delay briefly the initiation of a comprehensive examination of how the rural and non-rural mechanisms function together. The Commission will refer issues concerning the rural high-cost support mechanism and how that mechanism functions with the non-rural mechanism to the Joint Board at a later date.

III. Ordering Clauses

5. Pursuant to sections 1, 4(i) and (j), 254, and 410 of the Communications Act of 1934, as amended, 47 U.S.C. 151, 154(i), 154(j), 254, and 410, that the issues specified in the Order are referred to the Federal-State Joint Board on Universal Service for a recommendation to be received by the Commission no later than August 15, 2002.

List of Subjects in 47 CFR Part 54

Communications common carriers, Telecommunications, Telephone.

Federal Communications Commission.
William F. Caton,
Acting Secretary.

[FR Doc. 02-5675 Filed 3-8-02; 8:45 am]

BILLING CODE 6712-01-P